DEPARTMENT OF THE INTERIOR

Fish and Wildlife Service

[FWS-R6-ES-2024-N053; FXES11130600000-245-FF06E00000]

Endangered and Threatened Species; Receipt of Recovery Permit Applications

AGENCY: Fish and Wildlife Service, Interior.

ACTION: Notice of receipt of permit applications; request for comments.

SUMMARY: We, the U.S. Fish and Wildlife Service, have received applications for permits, permit renewals, and/or permit amendments to conduct scientific research to promote conservation or other activities intended to enhance the propagation or survival of endangered or threatened species under the Endangered Species Act. We invite the public and local, State, Tribal, and Federal agencies to comment on these applications. Before issuing any of the requested permits, we will take into consideration any information that we receive during the public comment period.

DATES: We must receive written data or comments on the applications by November 25, 2024.

ADDRESSES: Document availability and comment submission: Use one of the following methods to request documents or submit comments. Requests and comments should specify the applicant name(s) and application number(s) (e.g., Smith, PER0123456 or Jones, ES-056001):

• Email: permitsR6ES@fws.gov.

• U.S. Mail: Tom McDowell, Division Manager, Ecological Services, U.S. Fish and Wildlife Service, P.O. Box 25486 DFC, Denver, CO 80225.

FOR FURTHER INFORMATION CONTACT: Robert Krijgsman, Recovery Permits Coordinator, Ecological Services, 303-236-4347 (phone), or permitsR6ES@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act and the Freedom of Information Act.

Background

With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies and the public to submit written data, views, or arguments with respect to these applications. The comments and recommendations that will be most useful and likely to influence agency decisions are those supported by quantitative information or studies. Proposed activities in the following permit requests are for the recovery and enhancement of propagation or survival of the species in the wild.

Permit No. | Applicant | Species | Location | Activity | Permit action
ES-067734 | Badlands National Park, Interior, SD | • Black-footed ferret (Mustela nigripes) | South Dakota | Capture, vaccinate, mark, collect biological samples, tag, and release | Renew
ES-131638 | Loveland Living Planet Aquarium, Draper, UT | • Virgin River chub (Gila seminuda (=robusta)) Woundfin (Plagopterus argentissimus) | Utah | Capture, handle, hold in captivity, propagate, display for educational purposes, release, and conduct scientific studies | Renew and amend
ES-069553 | Nebraska National Forests and Grasslands, Wall, SD | • Black-footed ferret (Mustela nigripes) | South Dakota | Capture, vaccinate, mark, collect biological samples, tag, and release | Renew
PER12020441 | University of Nebraska, Lincoln, NE | • Salt Creek tiger beetle (Cicindela nevadica lincolniana) | Nebraska | Receive larval specimens for rearing in captivity, conduct genetic research, and reintroduce into the wild | New
PER12033146 | HDR, Inc., Fort Collins, CO | Southwestern willow flycatcher (Empidonax traillii extimus) | Colorado | Play taped vocalizations for surveys | New
ES-145090 | Wind Cave National Park, Hot Springs, SD | Black-footed ferret (Mustela nigripes) | South Dakota | Capture, vaccinate, mark, collect biological samples, tag, and release | Renew

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

If we decide to issue a permit to an applicant listed in this notice, we will publish a notice in the Federal Register.

Authority

We publish this notice under section 10(c) of the Endangered Species Act of 1973, as amended (16 U.S.C. 1531 et seq.).

Marjorie Nelson,
Assistant Regional Director, Mountain-Prairie Region.

[FR Doc. 2024-24849 Filed 10-24-24; 8:45 am]

BILLING CODE 4333-15-P